Title 3—

The President

Presidential Determination No. 2008-25 of August 28, 2008

Memorandum for the Secretary of State

Emergency Fund Drawdown to Assist Georgian Victims of Conflict

By the authority vested in me by the Constitution and the laws of the United States, including sections 2 and 4(a)(1) of the Migration and Refugee Assistance Act of 1962 (the “Act”), as amended, (22 U.S.C. 2601 and 2603) and section 301 of title 3, United States Code:

(1) I hereby determine, pursuant to section 2(c)(1) of the Act, that it is important to the national interest to furnish assistance under the Act, in an amount not to exceed $5.75 million from the United States Emergency Refugee and Migration Assistance Fund, for the purpose of meeting unexpected and urgent refugee and migration needs, including by contributions to international, governmental, and nongovernmental organizations and payment of administrative expenses of the Bureau of Population, Refugees, and Migration of the Department of State, related to the humanitarian needs of conflict victims and those displaced by recent violence in Georgia.

(2) I hereby assign to you the functions of the President in relation to this memorandum under section 2(d) of the Act, and of establishing terms and conditions under section 2(c)(1) of the Act, and you may further assign such functions to your subordinates, consistent with applicable law.

You are authorized and directed to publish this memorandum in the Federal Register .

THE WHITE HOUSE,

Washington, August 28, 2008

[FR Doc. E8-21975

Filed 9-17-08; 8:45 am]

Billing code 4710-10-P